DEPARTMENT OF ENERGY

Federal Energy Regulatory Commission

[Project No. 516-452]

South Carolina Electric and Gas Company; Notice of Availability of Environmental Assessment

July 18, 2008.

In accordance with the National Environmental Policy Act of 1969 and the Federal Energy Regulatory Commission's regulations, 18 CFR part 380 (Order No. 486, 52 FR 47879), the Office of Energy Projects has prepared an environmental assessment (EA) for an application filed by South Carolina Electric and Gas Company (SCE&G) (licensee) on January 17, 2008, for a non-project use of project lands and waters at the Saluda Hydroelectric Project (FERC Project No.516). Specifically, the licensee requests authorization to issue a permit to Lighthouse Developments, Inc. (Lighthouse) to install a community dock that would accommodate 84 watercraft, a boat launch ramp, and parking lot. The proposed facilities would provide boating access to the project's reservoir (Lake Murray) for homeowners in a new residential development known as Paradise Cove. The EA evaluates the environmental impacts that would likely result from Lighthouse's development proposal. The EA finds that approval of SCE&G's application would not constitute a major federal action significantly affecting the quality of the human environment.

A copy of the EA is on file with the Commission and is available for public inspection. The EA may also be viewed on the Commission's Web site at http://www.ferc.gov using the “eLibrary” link. Enter the docket number (P-516) excluding the last three digits in the docket number field to access the document. For assistance, contact FERC Online Support at FERCOnlineSupport@ferc.gov,or toll-free at 1-866-208-3676, or for TTY, (202) 502-8659.

Any comments should be filed by July 31, 2008, and should be addressed to the Secretary, Federal Energy Regulatory Commission, 888 First Street, NE., Room 1-A, Washington, DC 20426. Please reference the project name and project number (P-2686) on all comments. Comments may be filed electronically via the Internet in lieu of paper. The Commission strongly encourages electronic filings. See18 CFR 385.2001(a)(1)(iii) and the instructions on the Commission's Web site under the “eFiling” link. For further information, contact Brian Romanek at (202) 502-6175.

Kimberly D. Bose,
Secretary.

[FR Doc. E8-17170 Filed 7-25-08; 8:45 am]

BILLING CODE 6717-01-P